DEPARTMENT OF DEFENSE

Office of the Secretary

Base Closure and Realignment

AGENCY: Office of Economic Adjustment, DoD.

ACTION: Notice.

SUMMARY: This notice is provided pursuant to section 2905(b)(7)(B)(ii) of the Defense Base Closure and Realignment Act of 1990. It provides a partial list of military installations closing or realigning pursuant to the 2005 Base Closure and Realignment (BRAC) Report. It also provides a corresponding listing of the Local Redevelopment Authorities (LRA) for the Air Force Research Laboratory, Arizona, and portions of the Newport Naval Complex, Rhode Island, recognized by the Secretary of Defense, acting through the Department of Defense, Office of Economic Adjustment (OEA), as well as the point of contact, address, and telephone number for the LRA for each installation. Representatives of State and local governments, homeless providers, and other parties interested in the redevelopment of the installation should contact the person or organization listed. The following information will also be published simultaneously in a newspaper of general circulation in the area of the installation.

DATES: Effective May 25, 2010.

FOR FURTHER INFORMATION CONTACT: Director, Office of Economic Adjustment, Office of the Secretary of Defense, 400 Army Navy Drive, Suite 200, Arlington, VA 22202-4704, (703) 604-6020.

Local Redevelopment Authority (LRA)

Arizona

Installation Name: Air Force Research Laboratory.

LRA Name: City of Mesa.

Point of Contact: Patrick Murphy, Project Manager, City of Mesa Economic Development.

Address: 20 E. Main Street, Suite 200, P.O. Box 1466, Mesa, AZ 85211-1466.

Phone: (480) 644-3964.

E-mail address: patrick.murphy@mesaaz.gov.

Rhode Island

Installation Name: Newport Naval Complex.

LRA Name: Aquidneck Island Reuse Planning Authority (AIRPA).

Point of Contact: Tina Dolen, Executive Director, Aquidneck Island Reuse Planning Authority.

Address: 437 Broadway, Newport, RI 02840-1739.

Phone: (401) 845-9299.

E-mail Address: tina@acquidneckplanning.org.

Dated: May 20, 2010.
Mitchell S. Bryman,
Alternate OSD Federal Register Liaison Officer, Department of Defense.

[FR Doc. 2010-12521 Filed 5-24-10; 8:45 am]

BILLING CODE 5001-06-P